DEPARTMENT OF THE INTERIOR

National Park Service

[NPS-WASO-NAGPRA-NPS0039946; PPWOCRADN0-PCU00RP14.R50000]

Notice of Inventory Completion: U.S. Department of the Interior, Bureau of Indian Affairs, Washington, DC

AGENCY: National Park Service, Interior.

ACTION: Notice.

SUMMARY: In accordance with the Native American Graves Protection and Repatriation Act (NAGPRA), the U.S. Department of the Interior, Bureau of Indian Affairs has completed an inventory of human remains and associated funerary objects and has determined that there is a cultural affiliation between the human remains and associated funerary objects and Indian Tribes or Native Hawaiian organizations in this notice.

DATES: Repatriation of the human remains and associated funerary objects in this notice may occur on or after May 19, 2025.

ADDRESSES: Tamara Billie, NAGPRA Manager, Bureau of Indian Affairs, 1001 Indian School Road NW, Mailbox 44, Albuquerque, NM 87104, telephone (505) 879-9711, email tamara.billie@bia.gov.

SUPPLEMENTARY INFORMATION: This notice is published as part of the National Park Service's administrative responsibilities under NAGPRA. The determinations in this notice are the sole responsibility of the Bureau of Indian Affairs, and additional information on the determinations in this notice, including the results of consultation, can be found in its inventory or related records. The National Park Service is not responsible for the determinations in this notice.

Abstract of Information Available

Human remains representing at least 11 individuals have been identified. The 157 associated funerary objects are 22 lots of groundstone, 20 lots of lithics, 49 lots of ceramic sherds, 11 lots of “historic artifacts,” two lots of lightning stones, eight lots of unmodified stone, six lots of ceramic vessels, five lots of ornamental objects, five lots of pipes, three lots of minerals, one lot of “shatter,” four lots of botanical objects, 11 lots of fauna, one lot of a figurine, one lot of unworked wood, one lot of a ceramic disc, two lots of architectural remains, one lot of fossils, two lots of cloud blowers, and two lots of “indeterminate.” The Museum of New Mexico (MNM) conducted an archaeological salvage excavation at Nambe Pueblo (LA17) from June 16 to July 8, 1966. Ceramics located at the site reveal an occupation no earlier than A.D. 1200 and suggest a continued occupation of the site into the Historic Period. Additional human remains were donated to the Museum by a private individual who collected the human remains in 1964 from Powakwaiouinge Ruin, across from the creek from Nambe Pueblo.

Archaeological reports and oral history both confirm that this site and LA 17 are culturally affiliated with the Nambe Pueblo. There are no known chemical treatments for the objects, minus the possible application of some labeling material that is a thermoplastic resin.

Cultural Affiliation

Based on the information available and the results of the consultation, cultural affiliation is clearly identified by the information available about the human remains and associated funerary objects described in this notice and by the geographical location or acquisition history of the human remains and associated funerary objects described in this notice.

Determinations

The Bureau of Indian Affairs has determined that:

• The human remains described in this notice represent the physical remains of 11 individuals of Native American ancestry.

• The 157 objects are reasonably believed to have been placed intentionally with or near individual human remains at the time of death or later as part of the death rite or ceremony.

• There is a connection between the human remains and associated funerary objects described in this notice and the Pueblo of Nambe, New Mexico.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after May 19, 2025. If competing requests for repatriation are received, the Bureau of Indian Affairs must determine the most appropriate requestor prior to repatriation. Requests for joint repatriation of the human remains and associated funerary objects are considered a single request and not competing requests. The Bureau of Indian Affairs is responsible for sending a copy of this notice to the Indian Tribes and Native Hawaiian organizations identified in this notice.

Authority: Native American Graves Protection and Repatriation Act, 25 U.S.C. 3003, and the implementing regulations, 43 CFR 10.10.

Dated: April 8, 2025.
Melanie O'Brien,
Manager, National NAGPRA Program.

[FR Doc. 2025-06636 Filed 4-17-25; 8:45 am]

BILLING CODE 4312-52-P